DEPARTMENT OF TRANSPORTATION

Federal Aviation Administration

Agency Information Collection Activities: Requests for Comments; Clearance of Approval of New Information Collection: Generic Clearance for Customer Interactions

AGENCY: Federal Aviation Administration (FAA), DOT.

ACTION: Notice and request for comments.

SUMMARY: In accordance with the Paperwork Reduction Act of 1995, FAA invites public comments concerning our intention to request the Office of Management and Budget (OMB) approval of a new generic information collection. As part of a Federal Government-wide effort to streamline the process to seek feedback from the public, FAA is requesting approval of a New Generic Information Collection Request: “Generic Clearance for Customer Interactions”.

DATES: Written comments should be submitted by February 26, 2018.

FOR FURTHER INFORMATION CONTACT: Barbara Hall at (940) 594-5913, or by email at: Barbara.L.Hall@faa.gov.

SUPPLEMENTARY INFORMATION:

OMB Control Number: 2120-NEW.

Title: Generic Clearance for Customer Interactions.

Form Numbers: There are no FAA forms associated with this generic information collection.

Type of Review: New generic information collection.

Background: Customer Interactions provide the Federal Aviation Administration valuable information and connect the agency to the public that we serve. In order to ensure a timely and consistent process for Paperwork Reduction Act compliance, the Federal Aviation Administration is proposing to develop a Generic Information Collection Request to be utilized for Customer Interactions that support the Agency's mission.

Customer Interactions can support the Federal Aviation Administration's mission by allowing the Agency to collect qualitative and quantitative data that can help inform scientific research; aviation assessments and monitoring efforts; validate models or tools; and enhance the quantity and quality of data collected across communities. Customer Interactions also create an avenue to incorporate local knowledge and needs, and can contribute to increased data sharing, open data, and government transparency. The Federal Aviation Administration may sponsor the collection of this type of information in connection with aviation projects. All such collections will follow Agency policies and regulations. If a new collection is not within the parameters of this generic Information Collection Request (ICR), the Agency will submit a separate information collection request to Office of Management and Budget (OMB) for approval.

Collections under this generic ICR will be from volunteers who participate on their own initiative through an open and transparent process; the collections will be low-burden for participants; collections will be low-cost for both the participants and the Federal Government; and data will be available to support the endeavors of the Agency, states, tribal or local entities where data collection occurs.

Respondents: Approximately 11,000 Individuals and Households, Businesses and Organizations, State, Local or Tribal Government.

Frequency: Once per request.

Estimated Average Burden per Response: 10 minutes.

Estimated Total Annual Burden: 1,833 hours.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Fort Worth, TX, on December 19, 2017.
Barbara L. Hall,
FAA Information Collection Clearance Officer, Performance, Policy, and Records Management Branch, ASP-110.

[FR Doc. 2017-28049 Filed 12-27-17; 8:45 am]

BILLING CODE 4910-13-P